DEPARTMENT OF LABOR

Employment and Training Administration

[TA-W-61,238]

Quality Transparent Bag Company, Inc.; Bay City, MI; Notice of Termination of Investigation

Pursuant to Section 221 of the Trade Act of 1974, as amended, an investigation was initiated on April 3, 2007 in response to a petition filed by a company official on behalf of workers of Quality Transparent Bag Company, Inc., Bay City, Michigan.

The petitioner has requested that the petition be withdrawn. Consequently, the investigation has been terminated.

Signed at Washington, DC, this 23rd day of April, 2007.
Linda G. Poole,
Certifying Officer, Division of Trade Adjustment Assistance.

[FR Doc. E7-8464 Filed 5-2-07; 8:45 am]

BILLING CODE 4510-FN-P